DEPARTMENT OF STATE

[Public Notice 7127]

Culturally Significant Objects Imported for Exhibition Determinations: “Picasso: Masterpieces from the Musée National Picasso, Paris”

SUMMARY: Notice is hereby given of the following determinations: Pursuant to the authority vested in me by the Act of October 19, 1965 (79 Stat. 985; 22 U.S.C. 2459), Executive Order 12047 of March 27, 1978, the Foreign Affairs Reform and Restructuring Act of 1998 (112 Stat. 2681, et seq.; 22 U.S.C. 6501 note, et seq.), Delegation of Authority No. 234 of October 1, 1999, and Delegation of Authority No. 236-3 of August 28, 2000, I hereby determine that the objects to be included in the exhibition “Picasso: Masterpieces from the Musée National Picasso,” imported from abroad for temporary exhibition within the United States, are of cultural significance. The objects are imported pursuant to a loan agreement with the foreign owner or custodian. I also determine that the exhibition or display of the exhibit objects at the Seattle Art Museum, Seattle, WA, from on or about October 8, 2010, until on or about January 17, 2011; at the Virginia Museum of Fine Arts, Richmond, VA, from on or about February 19, 2011, until on or about May 15, 2011; at the Fine Arts Museums of San Francisco, San Francisco, CA, from on or about June 11, 2011, until on or about September 18, 2011; and at possible additional exhibitions or venues yet to be determined, is in the national interest. Public Notice of these Determinations is ordered to be published in the Federal Register.

FOR FURTHER INFORMATION CONTACT: For further information, including a list of the exhibit objects, contact Carol B. Epstein, Attorney-Adviser, Office of the Legal Adviser, U.S. Department of State (telephone: 202/632-6473). The address is U.S. Department of State, SA-5, L/PD, Fifth Floor, Washington, DC 20522-0505.

Dated: August 10, 2010.
Ann Stock,
Assistant Secretary, Bureau of Educational and Cultural Affairs, Department of State.

[FR Doc. 2010-20697 Filed 8-19-10; 8:45 am]

BILLING CODE 4710-05-P